DEPARTMENT OF AGRICULTURE

Forest Service

Fresno County Resource Advisory Committee

AGENCY: Forest Service, USDA.

ACTION: Notice of meeting.

SUMMARY: The Fresno County Resource Advisory Committee will be meeting in Prather, California, September 29, 2010. The purpose of the meeting will be to develop a timeline for receiving project proposals for the next funding cycle and review monitoring accomplishments.

DATES: The meeting will be held on September 29, 2010 from 6 p.m. to 8:30 p.m.

ADDRESSES: The meeting will be held at the High Sierra Ranger District, 29688 Auberry Rd., Prather, CA. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements with the Committee staff before or after the meeting. Agenda items to be covered include: (1) Develop timeline for new project proposals and (2) Discuss monitoring accomplishments of current projects.

Dated: August 3, 2010.
Ray Porter,
District Ranger.

[FR Doc. 2010-19665 Filed 8-10-10; 8:45 am]

BILLING CODE 3410-11-M